DEPARTMENT OF COMMERCE

International Trade Administration

[A-201-504]

Porcelain-On-Steel Cookware From Mexico: Initiation and Preliminary Results of Changed-Circumstances Antidumping Duty Administrative Review and Notice of Intent to Revoke the Order and to Rescind Administrative Reviews

AGENCY: Import Administration, International Trade Administration, Department of Commerce.

ACTION: Notice of Initiation and Preliminary Results of Changed-Circumstances Antidumping Duty Administrative Review and Notice of Intent to Revoke the Order and to Rescind Administrative Reviews.

SUMMARY: In response to a request from the petitioner, Columbian Home Products, LLC, that the Department of Commerce revoke the antidumping duty order on porcelain-on-steel cookware from Mexico, we are initiating a changed-circumstances administrative review and are issuing this notice of preliminary results and intent to revoke the antidumping duty order as of December 1, 1995. If these preliminary results become final, we intend to rescind the current antidumping duty administrative reviews, covering the periods December 1, 1999 through November 30, 2000, and December 1, 2000 through November 30, 2001. Interested parties are invited to comment on these preliminary results.

EFFECTIVE DATE: February 25, 2002.

FOR FURTHER INFORMATION CONTACT: Rebecca Trainor or Kate Johnson, Office of AD/CVD Enforcement, Import Administration, International Trade Administration, U.S. Department of Commerce, 14th Street and Constitution Avenue, N.W., Washington, D.C. 20230; telephone (202) 482-4007 and (202) 482-4929, respectively.

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“Department's”) regulations are to the regulations at 19 CFR Part 351 (April 2001).

Background

On January 30, 2002, the petitioner, Columbian Home Products, LLC (“Columbian”), requested that the Department revoke the antidumping duty order on porcelain-on-steel cookware from Mexico as of December 1, 1995, stating that it no longer has an interest in maintaining this order. Columbian is a domestic interested party and is the successor company to the petitioner in the less-than-fair-value investigation. Columbian stated that it is the only U.S. producer of porcelain-on-steel cookware, and therefore, it accounts for “substantially all of the production of the domestic like product,” within the meaning of section 782(h)(2) of the Act.

Scope of the Order

The products covered by this order are porcelain-on-steel cookware, including tea kettles, which do not have self-contained electric heating elements. All of the foregoing are constructed of steel and are enameled or glazed with vitreous glasses. This merchandise is currently classifiable under Harmonized Tariff Schedule of the United States (“HTSUS”) subheading 7323.94.00. Kitchenware currently classifiable under HTSUS subheading 7323.94.00.30 is not subject to the order. Although the HTSUS subheadings are provided for convenience and customs purposes, the written description of the scope of this proceeding is dispositive.

Initiation and Preliminary Results of Changed-Circumstances Review and Intent to Revoke Order

Pursuant to section 751(d)(1) of the Act, the Department may revoke, in whole or in part, an antidumping duty order based on a review under section 751(b) of the Act (i.e., a changed-circumstances review). The Department's regulations at 19 CFR 351.216(d) require the Department to conduct a changed-circumstances review in accordance with 19 CFR 351.221 if it decides that changed circumstances sufficient to warrant a review exist. Section 782(h)(2) of the Act and 19 CFR 351.222(g)(1)(i) provide that the Department may revoke an order (in whole or in part) if it determines that producers accounting for substantially all of the production of the domestic like product have no further interest in the order. In addition, in the event that the Department concludes that expedited action is warranted, 19 CFR 351.221(c)(3) permits the Department to combine the notices of initiation and preliminary results.

The petitioner is a domestic interested party as defined by section 771(9)(C) of the Act and 19 CFR 351.102(b). Columbian is the only U.S. producer of porcelain-on-steel cookware and therefore represents at least 85 percent of the domestic production of the domestic like product to which this order pertains, and thus accounts for “substantially all” of the production of the domestic like product. Therefore, based on the lack of interest by the domestic industry in the continued application of the antidumping duty order on porcelain-on-steel cookware from Mexico, we are initiating this changed-circumstances review. Because of the on-going and pending administrative reviews, we have determined that expedited action is warranted, and we are combining the notices of initiation and preliminary results. We have preliminarily determined that the petitioner's statement of no interest in the continuation of the order constitutes changed circumstances sufficient to warrant revocation of the order in whole. We are hereby notifying the public of our intent to revoke the antidumping duty order on porcelain-on-steel cookware from Mexico as of December 1, 1995.

If these preliminary results become final, we intend to rescind the current antidumping duty administrative reviews, covering the periods December 1, 1999 through November 30, 2000, and December 1, 2000 through November 30, 2001.

If final revocation of the order occurs, we intend to instruct the Customs Service to discontinue the suspension of liquidation and to refund any estimated antidumping duties collected for all unliquidated entries of porcelain-on-steel cookware from Mexico entered, or withdrawn from warehouse, for consumption on or after December 1, 1995. We will also instruct the Customs Service to pay interest on any refunds with respect to the subject merchandise entered, or withdrawn from warehouse, for consumption on or after December 1, 1995, in accordance with section 778 of the Act. The current requirement for a cash deposit of estimated antidumping duties will continue until publication of the final results of this changed-circumstances review.

Public Comment

Interested parties are invited to comment on these preliminary results. Parties who submit argument in this proceeding are requested to submit with the argument (1) a statement of the issue, and (2) a brief summary of the argument. Any interested party may request a hearing within 10 days of the date of publication of this notice. Any hearing, if requested, will be held no later than 21 days after the date of publication of this notice, or the first workday thereafter. Case briefs may be submitted by interested parties not later than 7 days after the date of publication of this notice. Rebuttal briefs, limited to the issues raised in the case briefs, may be filed not later than 12 days after the date of publication of this notice. All written comments shall be submitted in accordance with 19 CFR 351.303 and shall be served on all interested parties on the Department's service list in accordance with 19 CFR 351.303. Persons interested in attending the hearing should contact the Department for the date and time of the hearing. The Department will publish the final results of this changed-circumstances review, including the results of its analysis of issues raised in any written comments.

We are issuing and publishing this determination and notice in accordance with sections 751(b)(1) and 777(i)(1) of the Act and 19 CFR 351.222.

February 14, 2002
Faryar Shirzad,
Assistant Secretary for Import Administration.

[FR Doc. 02-4421 Filed 2-22-02; 8:45 am]

BILLING CODE 3510-DS-S